DEPARTMENT OF JUSTICE

Drug Enforcement Administration

Jason Vanshaar, M.D.; Decision and Order

On May 28, 2025, the Drug Enforcement Administration (DEA or Government) issued an Order to Show Cause and Immediate Suspension of Registration (OSC/ISO) to Jason VanShaar, M.D., of Uintah, Utah (Registrant). OSC/ISO, at 1, 9; Request for Final Agency Action (RFAA), Exhibit (RFAAX) 1, at 1, 9. The OSC/ISO informed Registrant of the immediate suspension of his DEA Certificate of Registration, No. FV2721694, based in Utah, pursuant to 21 U.S.C. 824(d), alleging that Registrant's continued registration constitutes “an imminent danger to the public health or safety.” OSC/ISO, at 1; RFAAX 1, at 1 (quoting 21 U.S.C. 824(d)). The OSC/ISO also proposed the revocation of Registrant's DEA Certificate of Registration, No. FV2721694, and the denial of Registrant's application for an additional DEA Certificate of Registration, No. W24166810C, based in Arizona, alleging that Registrant's continued registration is inconsistent with the public interest. OSC/ISO, at 1; RFAAX 1, at 1 (citing 21 U.S.C. 823(g)(1); 824(a)(4)).¹

¹ Based on the Government's submissions in its RFAA dated July 15, 2025, the Agency finds that service of the OSC/ISO on Registrant was adequate. Specifically, the Declaration from a DEA Diversion Investigator (DI) indicates that on May 29, 2025, the DI traveled to Registrant's registered address and personally served the OSC/ISO on Registrant. RFAAX 2, at 2; see also id. at 3 (Form DEA-12 signed by Registrant acknowledging receipt of the OSC/ISO).

The OSC/ISO alleged that from at least February 2021 to at least March 2025, Registrant repeatedly violated federal and Utah state law by issuing at least 288 prescriptions for Schedule II-IV controlled substances to four patients outside the usual course of professional practice and not for a legitimate medical purpose, in violation of 21 CFR 1306.04(a); Utah Code Ann. §§ 58-1-501(2)(a)(xiii)(A), 58-37-6(7)(i), 58-37-19(2)(a)-(e), 58-37f-304(2)(a)-(b)(i); and Utah Admin. Code r. § 156-37-602(1)(b)-(c).² OSC/ISO, at 2-4; RFAAX 1, at 2-4. Specifically, the OSC/ISO alleged that, among other things, Registrant failed to determine medical necessity for prescribing controlled substances, failed to conduct appropriate physical exams, failed to maintain accurate medical records, and prescribed dangerous combinations of controlled substances. OSC/ISO, at 4; RFAAX 1, at 4.

² The Agency need not adjudicate the criminal violations alleged in the OSC/ISO. Ruan v. United States, 597 U.S. 450 (2022) (decided in the context of criminal proceedings).

On July 15, 2025, the Government submitted an RFAA requesting that the Agency issue a default final order revoking Registrant's registration and denying Registrant's application. RFAA, at 9-10. After carefully reviewing the entire record and conducting the analysis as set forth in more detail below, the Agency grants the Government's request for final agency action, revokes Registrant's registration, and denies Registrant's application.

I. Default Determination

Under 21 CFR 1301.43, a registrant entitled to a hearing who fails to file a timely hearing request “within 30 days after the date of receipt of the [OSC/ISO] . . . shall be deemed to have waived their right to a hearing and to be in default” unless “good cause” is established for the failure. 21 CFR 1301.43(a) & (c)(1). In the absence of a demonstration of good cause, a registrant who fails to timely file an answer also is “deemed to have waived their right to a hearing and to be in default.” 21 CFR 1301.43(c)(2). Unless excused, a default is deemed to constitute “an admission of the factual allegations of the [OSC/ISO].” 21 CFR 1301.43(e).

Here, the OSC/ISO notified Registrant of his right to file a written request for hearing, and that if he failed to file such a request, he would be deemed to have waived his right to a hearing and be in default. OSC/ISO, at 8-9; RFAAX 1, at 8-9 (citing 21 CFR 1301.43). According to the Government's RFAA, Registrant failed to request a hearing. RFAA, at 2. Thus, the Agency finds that Registrant is in default and therefore has admitted to the factual allegations in the OSC/ISO. 21 CFR 1301.43(e).

II. Applicable Law

As the Supreme Court stated in Gonzales v. Raich, 545 U.S. 1 (2005), “the main objectives of the [Controlled Substances Act (CSA)] were to conquer drug abuse and control the legitimate and illegitimate traffic in controlled substances.” 545 U.S. at 12. Gonzales explained that:

Congress was particularly concerned with the need to prevent the diversion of drugs from legitimate to illicit channels. To effectuate these goals, Congress devised a closed regulatory system making it unlawful to manufacture, distribute, dispense, or possess any controlled substance except in a manner authorized by the CSA . . . . The CSA and its implementing regulations set forth strict requirements regarding registration, labeling and packaging, production quotas, drug security, and recordkeeping.

Id. at 12-14.

The OSC/ISO's allegations concern the CSA's “statutory and regulatory provisions . . . mandating . . . compliance with . . . prescription requirements” and, therefore, go to the heart of the CSA's “closed regulatory system” specifically designed “to conquer drug abuse and to control the legitimate and illegitimate traffic in controlled substances,” and “to prevent the diversion of drugs from legitimate to illicit channels.” Id. at 12-14, 27.

A. Allegation That Registrant Improperly Prescribed Controlled Substances

According to the CSA's implementing regulations, a lawful controlled substance prescription is one that is “issued for a legitimate medical purpose by an individual practitioner acting in the usual course of his professional practice.” 21 CFR 1306.04(a); see Gonzales v. Oregon, 546 U.S. 243, 274 (2006), United States v. Hayes, 595 F.2d 258 (5th Cir. 1979), rehearing den., 598 F.2d 620 (5th Cir. 1979), cert. denied, 444 U.S. 866 (1979); RFAAX 1, at 2. A “practitioner must establish and maintain a bona fide doctor-patient relationship in order to act `in the usual course of . . . professional practice' and to issue a prescription for a `legitimate medical purpose.' ” Dewey C. MacKay, M.D., 75 FR 49,956, 49,973 (2010).

As for state law, Utah regulations state that unprofessional conduct includes issuing a prescription “without first obtaining information in the usual course of professional practice, that is sufficient to establish a diagnosis, to identify conditions, and to identify contraindications to the proposed treatment.” Utah Code Ann. § 58-1-501(2)(a)(xiii)(A); RFAAX 1, at 1-2.

The Utah Controlled Substances Act states that a practitioner “may not prescribe or administer dosages of a controlled substance in excess of medically recognized quantities necessary to treat the ailment, malady, or condition of the ultimate user.” Utah Code Ann. § 58-37-6(7)(i); RFAAX 1, at 2. The Utah Controlled Substances Act also requires that, subject to very limited exceptions not applicable here, “a prescriber may not issue an initial opiate prescription without discussing with the patient . . . (a) the risks of addiction and overdose associated with opiate drugs; (b) the dangers of taking opiates with alcohol, benzodiazepines, and other central nervous system depressants; (c) the reasons why the prescription is necessary; (d) alternative treatments that may be available; and (e) other risks associated with the use of the drugs being prescribed.” Utah Code Ann. § 58-37-19(2)(a)-(e); RFAAX 1, at 2.

Moreover, the Utah Controlled Substance Database Act requires that a prescriber check the Utah Controlled Substance Database for information about a patient before the first time prescribing him or her a Schedule II or III opioid. Utah Code Ann. § 58-37f-304(2)(a); RFAAX 1, at 2. The Utah Controlled Substance Database Act also requires that the prescriber repeatedly review information about the patient in the Utah Controlled Substance Database if the prescriber is repeatedly prescribing a Schedule II or III opioid to the patient. Utah Code Ann. § 58-37f-304(2)(b)(i); RFAAX 1, at 2.

Finally, the Utah Administrative Code requires that “[p]rescribing practitioners shall keep accurate records for each patient reflecting: (i) examination; (ii) evaluation; and (iii) treatment.” Utah Admin. Code r. § 156-37-602(1)(b); RFAAX 1, at 2. The Utah Administrative Code also requires that “[p]atient medical records shall: (i) accurately reflect the prescription or administration of controlled substances in the treatment of the patient; (ii) the purpose for which the controlled substance is utilized; and (iii) information upon which the diagnosis is based.” Utah Admin. Code r. § 156-37-602(1)(c); RFAAX 1, at 2.

III. Findings of Fact

In light of Registrant's default, the factual allegations in the OSC/ISO are deemed admitted. 21 CFR 1301.43(e). Accordingly, Registrant admits that from at least February 2021 to at least March 2025, Registrant repeatedly violated federal and Utah state law by issuing at least 288 prescriptions for Schedule II-IV controlled substances to four patients outside the course of professional practice and not for a legitimate medical purpose. OSC/ISO, at 2-4.

Patient C.B.

Registrant admits that between August 23, 2021, and February 3, 2025, Registrant issued at least 40 prescriptions for oxymorphone ER 40 mg (a Schedule II opioid) to Patient C.B. OSC/ISO, at 4. Registrant also admits that between June 16, 2021, and February 3, 2025, Registrant issued at least 34 prescriptions for oxycodone 30 mg (a Schedule II opioid) to Patient C.B. Id. Registrant admits that Registrant issued all of these prescriptions despite, among other things: (a) failing to obtain information in the usual course of professional practice that is sufficient to establish a diagnosis; (b) failing to conduct and document an appropriate physical examination before prescribing opioids; (c) prescribing dosages of controlled substances in excess of medically recognized quantities necessary to treat the ailment, malady, or condition of the ultimate user; (d) failing to discuss with the patient the risks associated with opiates prior to prescribing opiates; (e) failing to periodically check the Utah Controlled Substance Database while repeatedly prescribing Schedule II opioids; and (f) failing to maintain accurate medical records. Id. Registrant admits that the above prescriptions for controlled substances issued to Patient C.B. were not issued for a legitimate medical purpose by an individual practitioner acting in the usual course of his professional practice. Id.

Patient M.N.

Registrant admits that between February 8, 2021, and June 30, 2023, Registrant issued at least 31 prescriptions for alprazolam 2 mg (a Schedule IV benzodiazepine) to Patient M.N. Id. at 5. Registrant also admits that between February 8, 2021, and June 30, 2023, Registrant issued at least 32 prescriptions for carisoprodol 350 mg (a Schedule IV muscle relaxant) to Patient M.N. Id. Registrant further admits that between February 8, 2021, and June 30, 2023, Registrant issued at least 30 prescriptions for oxycodone 30 mg, at least one prescription for oxycodone 15 mg, and at least one prescription for oxycodone 5 mg to Patient M.N. Id. Registrant admits that Registrant issued all of these prescriptions despite, among other things: (a) repeatedly issuing overlapping prescriptions for controlled substances resulting in drug cocktails, including at least 29 Holy Trinity ³ cocktails, without sufficiently establishing a diagnosis and identifying contraindications to the proposed treatment and without discussing with the patient the dangers of taking opioids in combination with benzodiazepines and other central nervous system depressants; (b) failing to conduct and document an appropriate physical examination before prescribing opioids; (c) prescribing dosages of controlled substances in excess of medically recognized quantities necessary to treat the ailment, malady, or condition of the ultimate user; (d) failing to periodically check the Utah Controlled Substance Database while repeatedly prescribing Schedule II opioids; and (e) failing to maintain accurate medical records. Id. Registrant admits that the above prescriptions for controlled substances issued to Patient M.N. were not issued for a legitimate medical purpose by an individual practitioner acting in the usual course of his professional practice. Id.

³ “Holy Trinity” refers to opioids in combination with prescriptions for alprazolam and carisoprodol. Id. Registrant admits that the “Holy Trinity” cocktail greatly increases a patient's risk of sedation, respiratory depression, coma, and death, and that DEA has held that these cocktails are highly abused and associated with diversion. RFAAX 1, at 2 (citing Jacobo Dreszer, M.D., 76 FR 19,386, 19,389 (2011) (describing combinations of opioids and benzodiazepines as “drug cocktails” and noting that when “used in combination, the potential for [a] drug overdose and death is increased”).

Patient S.C.

Registrant admits that between March 5, 2021, and February 5, 2025, Registrant issued at least 38 prescriptions for alprazolam 2 mg to Patient S.C. Id. at 6. Registrant also admits that between March 5, 2021, and February 5, 2025, Registrant issued at least 40 prescriptions for oxycodone 30 mg to Patient S.C. Id. Registrant further admits that between March 5, 2021, and February 5, 2025, Registrant issued at least 38 prescriptions for carisoprodol 350 mg to Patient S.C. Id. Registrant admits that Registrant issued all of these prescriptions despite, among other things: (a) repeatedly issuing overlapping prescriptions for controlled substances resulting in drug cocktails, including at least 38 Holy Trinity cocktails, without sufficiently establishing a diagnosis and identifying contraindications to the proposed treatment and without discussing with the patient the dangers of taking opioids in combination with benzodiazepines and other central nervous system depressants; (b) failing to conduct and document an appropriate physical examination before prescribing opioids; (c) prescribing dosages of controlled substances in excess of medically recognized quantities necessary to treat the ailment, malady, or condition of the ultimate user; (d) failing to periodically check the Utah Controlled Substance Database while repeatedly prescribing Schedule II opioids; and (e) failing to maintain accurate medical records. Id. Registrant admits that the above prescriptions for controlled substances issued to Patient S.C. were not issued for a legitimate medical purpose by an individual practitioner acting in the usual course of his professional practice. Id.

Patient A.L.

Registrant admits that between September 20, 2024, and March 14, 2025, Registrant issued approximately 9 prescriptions for oxycodone 30 mg to Patient A.L. OSC/ISO, at 7. Registrant also admits that between September 20, 2024, and March 14, 2025, Registrant issued approximately 9 prescriptions for Adderall ⁴ 15 mg (a Schedule II central nervous system stimulant) to Patient A.L. Id. Registrant admits that Registrant issued all of these prescriptions despite, among other things: (a) failing to obtain information in the usual course of professional practice that is sufficient to establish a diagnosis; (b) failing to conduct and document an appropriate physical examination before prescribing opioids; (c) prescribing dosages of controlled substances in excess of medically recognized quantities necessary to treat the ailment, malady, or condition of the ultimate user; (d) failing to discuss with the patient the risks associated with opiates prior to prescribing opiates; (e) failing to periodically check the Utah Controlled Substance Database while repeatedly prescribing Schedule II opioids; and (f) failing to maintain accurate medical records. Id. Registrant admits that the above prescriptions for controlled substances issued to Patient A.L. were not issued for a legitimate medical purpose by an individual practitioner acting in the usual course of his professional practice. Id.

⁴ Adderall is a brand name for amphetamine/dextroamphetamine mixed salts.

DEA retained an independent medical expert to review, among other materials, Registrant's patient files and/or prescribing history for Patients C.B., M.N., S.C., and A.L. Id. at 8. DEA's medical expert concluded that Registrant's issuance of the above prescriptions fell outside the standard of care applicable to the practice of medicine in Utah. Id.

In consideration of the above, the Agency finds substantial record evidence that Registrant issued at least 288 prescriptions that lacked a legitimate medical purpose and were issued outside the usual course of professional practice in Utah.

IV. Public Interest Determination

A. Legal Background on Public Interest Determinations

When the CSA's requirements are not met, the Attorney General “may deny, suspend, or revoke [a] registration if . . . the [registrant's] registration would be `inconsistent with the public interest.' ” Gonzales v. Oregon, 546 U.S. 243, 251 (2006) (quoting 21 U.S.C. 824(a)(4)). In the case of a “practitioner,” Congress directed the Attorney General to consider five factors in making the public interest determination. Id.; 21 U.S.C. 823(g)(1)(A-E).⁵

⁵ The five factors are:

(A) The recommendation of the appropriate State licensing board or professional disciplinary authority.

(B) The [registrant's] experience in dispensing, or conducting research with respect to controlled substances.

(C) The [registrant's] conviction record under Federal or State laws relating to the manufacture, distribution, or dispensing of controlled substances.

(D) Compliance with applicable State, Federal, or local laws relating to controlled substances.

(E) Such other conduct which may threaten the public health and safety.

21 U.S.C. 823(g)(1)(A-E).

The five factors are considered in the disjunctive. Gonzales v. Oregon, 546 U.S. at 292-93 (Scalia, J., dissenting) (“It is well established that these factors are to be considered in the disjunctive,” quoting In re Arora, 60 FR 4447, 4448 (1995)); Robert A. Leslie, M.D., 68 FR 15,227, 15,230 (2003). Each factor is weighed on a case-by-case basis. David H. Gillis, M.D., 58 FR 37,507, 37,508 (1993); see Morall v. Drug Enf't Admin., 412 F.3d 165, 181 (D.C. Cir. 2005) (describing the Agency's adjudicative process as “applying a multi-factor test through case-by-case adjudication,” quoting LeMoyne-Owen Coll. v. N.L.R.B., 357 F.3d 55, 61 (D.C. Cir. 2004)). Any one factor, or combination of factors, may be decisive, David H. Gillis, M.D., 58 FR at 37,508, and the Agency “may give each factor the weight . . . deem[ed] appropriate in determining whether a registration should be revoked or an application for registration denied.” Morall, 412 F.3d. at 185 n.2 (Henderson, J., concurring) (quoting Robert A. Smith, M.D., 70 FR 33,207, 33,208 (2007)); see also Penick Corp. v. Drug Enf't Admin., 491 F.3d 483, 490 (D.C. Cir. 2007).

Moreover, while the Agency is required to consider each of the factors, it “need not make explicit findings as to each one.” MacKay v. Drug Enf't Admin., 664 F.3d 808, 816 (10th Cir. 2011) (quoting Volkman v. U.S. Drug Enf't Admin., 567 F.3d 215, 222 (6th Cir. 2009)); Jones Total Health Care Pharmacy, LLC v. Drug Enf't Admin., 881 F.3d 823, 830 (11th Cir. 2018); Hoxie v. Drug Enf't Admin., 419 F.3d 477, 482 (6th Cir. 2005). “In short, . . . the Agency is not required to mechanically count up the factors and determine how many favor the Government and how many favor the registrant. Rather, it is an inquiry which focuses on protecting the public interest; what matters is the seriousness of the registrant's misconduct.” Jayam Krishna-Iyer, M.D., 74 FR 459, 462 (2009). Accordingly, as the Tenth Circuit has recognized, Agency decisions have explained that findings under a single factor can support the revocation of a registration. MacKay, 664 F.3d at 821.

The Government has the burden of proof in this proceeding. 21 CFR 1301.44(e).

B. Registrant's Registration is Inconsistent With the Public Interest

While the Agency has considered all the public interest factors of 21 U.S.C. 823(g)(1),⁶ the Government's evidence in support of its prima facie case is confined to Factors B and D. OSC/ISO, at 7. Evidence is considered under Factors B and D when it reflects compliance or non-compliance with laws related to controlled substances and experience dispensing controlled substances. Kareem Hubbard, M.D., 87 FR 21,156, 21,162 (2022).

⁶ As to Factor A, there is no record evidence of disciplinary action against Registrant's state medical license. 21 U.S.C. 823(g)(1)(A). State authority to practice medicine is “a necessary, but not a sufficient condition for registration.” Robert A. Leslie, M.D., 68 FR at 15,230. Therefore, “[t]he fact that the record contains no evidence of a recommendation by a state licensing board does not weigh for or against a determination as to whether continuation of the [registrant's] [registration] is consistent with the public interest.” Roni Dreszer, M.D., 76 FR 19,434, 19,444 (2011). As to Factor C, there is no evidence in the record that Registrant has been convicted of any federal or state law offense “relating to the manufacture, distribution, or dispensing of controlled substances.” 21 U.S.C. 823(g)(1)(C). However, as Agency cases have noted, “the absence of such a conviction is of considerably less consequence in the public interest inquiry” and is therefore not dispositive. Dewey C. MacKay, M.D., 75 FR at 49,973. As to Factor E, the Government's evidence fits squarely within the parameters of Factors B and D and does not raise “other conduct which may threaten the public health and safety.” 21 U.S.C. 823(g)(1)(E). Accordingly, Factor E does not weigh for or against Registrant.

Here, as found above, Registrant is deemed to have admitted and the Agency finds that Registrant issued at least 288 prescriptions that lacked a legitimate medical purpose and were issued outside the usual course of professional practice. Accordingly, the Agency finds substantial record evidence that Registrant violated 21 CFR 1306.04(a); Utah Code Ann. §§ 58-1-501(2)(a)(xiii)(A), 58-37-6(7)(i), 58-37-19(2)(a)-(e), 58-37f-304(2)(a)-(b)(i); and Utah Admin. Code r. § 156-37-602(1)(b)-(c). The Agency further finds that after considering the factors of 21 U.S.C. 823(g)(1), Registrant's continued registration is “inconsistent with the public interest.” 21 U.S.C. 824(a)(4). Accordingly, the Government satisfied its prima facie burden of showing that Registrant's continued registration would be “inconsistent with the public interest.” 21 U.S.C. 824(a)(4). The Agency also finds that there is insufficient mitigating evidence to rebut the Government's prima facie case. Thus, the only remaining issue is whether, in spite of Registrant's misconduct, he can be trusted with a registration.

V. Sanction

Where, as here, the Government has met the burden of showing that Registrant's registration is inconsistent with the public interest, the burden shifts to Registrant to show why he can be entrusted with a registration. Morall, 412 F.3d. at 174; Jones Total Health Care Pharmacy, LLC v. Drug Enf't Admin., 881 F.3d 823, 830 (11th Cir. 2018); Garrett Howard Smith, M.D., 83 FR 18,882, 18,904 (2018). The issue of trust is necessarily a fact-dependent determination based on the circumstances presented by the individual registrant. Jeffrey Stein, M.D., 84 FR 46,968, 46,972 (2019); see also Jones Total Health Care Pharmacy, 881 F.3d at 833. Moreover, as past performance is the best predictor of future performance, the Agency requires that a registrant who has committed acts inconsistent with the public interest accept responsibility for those acts and demonstrate that he will not engage in future misconduct. See Jones Total Health Care Pharmacy, 881 F.3d at 833; ALRA Labs, Inc. v. Drug Enf't Admin., 54 F.3d 450, 452 (7th Cir. 1995). The Agency requires a registrant's unequivocal acceptance of responsibility. Janet S. Pettyjohn, D.O., 89 FR 82,639, 82,641 (2024); Mohammed Asgar, M.D., 83 FR 29,569, 29,573 (2018); see also Jones Total Health Care Pharmacy, 881 F.3d at 830-31. In addition, a registrant's candor during the investigation and hearing is an important factor in determining acceptance of responsibility and the appropriate sanction. See Jones Total Health Care Pharmacy, 881 F.3d at 830-31; Hoxie, 419 F.3d at 483-84. Further, the Agency considers the egregiousness and extent of the misconduct as significant factors in determining the appropriate sanction. See Jones Total Health Care Pharmacy, 881 F.3d at 834 & n.4. The Agency also considers the need to deter similar acts by a registrant and by the community of registrants. Jeffrey Stein, M.D., 84 FR at 46,972-73.

Here, Registrant did not request a hearing or answer the allegations in the OSC/ISO and was therefore deemed to be in default. See supra I. To date, Registrant has not filed a motion with the Office of the Administrator to excuse the default. 21 CFR 1301.43(c)(1). Registrant has thus failed to answer the allegations contained in the OSC/ISO and has not otherwise availed himself of the opportunity to refute the Government's case. As such, Registrant has not accepted responsibility for the proven violations, has made no representations regarding his future compliance with the CSA, and has not demonstrated that he can be trusted with registration. Accordingly, the Agency will order the revocation of Registrant's registration and the denial of Registrant's application.

Order

Pursuant to 28 CFR 0.100(b) and the authority vested in me by 21 U.S.C. 824(a) and 21 U.S.C. 823(g)(1), I hereby revoke DEA Certificate of Registration No. FV2721694 issued to Jason VanShaar, M.D., deny the pending application for a DEA Certificate of Registration No. W24166810C submitted by Jason VanShaar, M.D., and deny any other pending applications submitted by Jason VanShaar, M.D., in Utah or Arizona. This Order is effective February 17, 2026.

Signing Authority

This document of the Drug Enforcement Administration was signed on January 6, 2026, by Administrator Terrance C. Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2026-00627 Filed 1-14-26; 8:45 am]

BILLING CODE 4410-09-P